DEPARTMENT OF COMMERCE

National Oceanic and Atmospheric Administration

50 CFR Part 622

RIN 0648-BL09

Fisheries of the Caribbean, Gulf of Mexico, and South Atlantic; Coral, Coral Reefs, and Live/Hard Bottom Habitats of the South Atlantic Region; Coral Amendment 10

AGENCY: National Marine Fisheries Service (NMFS), National Oceanic and Atmospheric Administration (NOAA), Commerce.

ACTION: Announcement of the availability of a proposed fishery management plan amendment; request for comments.

SUMMARY: The South Atlantic Fishery Management Council (Council) has submitted Amendment 10 to the Fishery Management Plan (FMP) for the Coral, Coral Reefs, and Live/Hard Bottom Habitats of the South Atlantic Region (Coral FMP) for review, approval, and implementation by NMFS. If approved by the Secretary of Commerce (Secretary), Amendment 10 to the Coral FMP (Coral Amendment 10) would establish a shrimp fishery access area (SFAA) along the eastern boundary of the northern extension of the Oculina Bank Habitat Area of Particular Concern (OHAPC), where trawling for rock shrimp is currently prohibited. Coral Amendment 10 would increase access to historic rock shrimp fishing grounds while maintaining protection of the Oculina deep-water coral ecosystems, provide increased socio-economic benefits to fishers, and increase the likelihood of achieving optimum yield (OY) in the rock shrimp portion of the South Atlantic shrimp fishery.

DATES: Written comments must be received on or before June 28, 2022.

ADDRESSES: You may submit comments on Coral Amendment 10, identified by “NOAA-NMFS-2021-0126,” by either of the following methods:

• Electronic Submission: Submit all electronic public comments via the Federal e-Rulemaking Portal. Go to www.regulations.gov and enter “NOAA-NMFS-2021-0126” in the Search box. Click the “Comment” icon, complete the required fields, and enter or attach your comments.

• Mail: Submit written comments to Frank Helies, Southeast Regional Office, NMFS, 263 13th Avenue South, St. Petersburg, FL 33701.

• Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Coral Amendment 10, which includes a fishery impact statement, a Regulatory Flexibility Act analysis, and a regulatory impact review, may be obtained from the Southeast Regional Office website at https://www.fisheries.noaa.gov/action/amendment-10-establish-shrimp-fishery-access-area/.

FOR FURTHER INFORMATION CONTACT: Frank Helies, telephone: 727-824-5305, or email: Frank.Helies@noaa.gov.

SUPPLEMENTARY INFORMATION: The Magnuson-Stevens Fishery Conservation and Management Act (Magnuson-Stevens Act) requires each regional fishery management council to submit any FMP or FMP amendment to the Secretary for review and approval, partial approval, or disapproval. The Magnuson-Stevens Act also requires that the Secretary, upon receiving an FMP or FMP amendment, publish an announcement in the Federal Register notifying the public that the FMP or FMP amendment is available for review and comment.

The Council prepared the Coral FMP that is being revised by Coral Amendment 10. If approved, Coral Amendment 10 would be implemented by NMFS through regulations at 50 CFR part 622 under the authority of the Magnuson-Stevens Act.

Background

In 1984, the Council designated a 92-nm² portion of the Oculina Bank as the OHAPC (49 FR 29607; August 22, 1984). Additionally, the Council prohibited the use of bottom trawls, bottom longlines, dredges, fish traps, and fish pots within the OHAPC to mitigate the risk of damage by fishing gear to Oculina coral. In 2000, the Council further expanded the protected area in the OHAPC through Amendment 4 to the Coral FMP (65 FR 37292; June 14, 2000). In 2014, Amendment 8 to the Coral FMP (Coral Amendment 8) extended the OHAPC northward, including the area considered in this notification (80 FR 42423; July 17, 2015).

Information on the concentrated shrimp fishing effort in the area and its economic value to the rock shrimp portion of the shrimp fishery was discussed by the Council very late in the development of Coral Amendment 8. During these discussions, rock shrimp fishermen requested adjustment of the OHAPC boundary and provided coordinates that comprised the important fishing grounds in that area. Coral Amendment 10 was developed by the Council to explore options to establish an SFAA within the northern extension of the OHAPC. The Council also developed Coral Amendment 10 in response to the Presidential Executive Order on Seafood Competitiveness and Economic Growth (E.O. 13921) (85 FR 28471; May 7, 2020). Coral Amendment 10 would address the recommendation to reduce burdens on domestic fishing and to increase production within sustainable fisheries contained in E.O. 13921. This would be accomplished by re-opening a closed area to commercial fishermen who have lost access to areas that have been traditionally fished.

While landings and revenue from rock shrimp are highly variable, peak landings from recent years have fallen far short of maximum sustainable yield (MSY) and OY levels. Thus, the rock shrimp portion of the shrimp fishery has been consistently operating well below OY/MSY levels during this time. The purpose of Coral Amendment 10 is to increase economic and social benefits to rock shrimp fishermen by allowing access to historic rock shrimp fishing grounds.

Action Contained in Coral Amendment 10

Coral Amendment 10 would establish an approximately 22-mi² SFAA along the eastern boundary of the northern extension of the OHAPC, where fishing for and possessing rock shrimp is currently prohibited. Within the proposed SFAA, a shrimp vessel with a valid Federal limited access commercial vessel permit for rock shrimp would be allowed to bottom trawl for rock shrimp. All other existing restrictions, including prohibitions on anchoring and the use of bottom longline, dredge, pot, or trap gear, would remain.

Proposed Rule for Coral Amendment 10

A proposed rule to implement Coral Amendment 10 has been drafted. In accordance with the Magnuson-Stevens Act, NMFS is evaluating the proposed rule to determine whether it is consistent with the Coral FMP, Coral Amendment 10, the Magnuson-Stevens Act, and other applicable law. If that determination is affirmative, NMFS will submit the proposed rule for publication in the Federal Register for public review and comment.

Consideration of Public Comments

The Council has submitted Coral Amendment 10 for Secretarial review, approval, and implementation. Comments on Coral Amendment 10 must be received by June 28, 2022. Comments received during the respective comment periods, whether specifically directed to Coral Amendment 10 or the proposed rule, will be considered by NMFS in the decision to approve, disapprove, or partially approve Coral Amendment 10. Comments received after the comment periods will not be considered by NMFS in this decision. NMFS will address all comments received on the amendment or on the proposed rule during their respective comment periods in the final rule.

Authority: 16 U.S.C. 1801 et seq.

Dated: April 26, 2022.
Jennifer M. Wallace,
Acting Director, Office of Sustainable Fisheries, National Marine Fisheries Service.

[FR Doc. 2022-09211 Filed 4-28-22; 8:45 am]

BILLING CODE 3510-22-P